DEPARTMENT OF COMMERCE

Bureau of Export Administration

15 CFR Parts 738 and 742

[Docket No. 020215031-2031-01]

RIN 0694-AC-53

Revisions and Clarifications to the Export Administration Regulations: Czech Republic, Hungary and Poland

AGENCY: Bureau of Export Administration, Commerce.

ACTION: Final rule.

SUMMARY: The Bureau of Export Administration maintains the Export Administration Regulations (EAR). This rule amends the EAR by removing the license requirements for certain regional stability items and for certain crime control items destined to the Czech Republic, Hungary and Poland to correctly reflect the status of those countries as NATO members.

DATES: This rule is effective: March 18, 2002.

FOR FURTHER INFORMATION CONTACT: Joan Roberts, Acting Director, Office of Strategic Trade and Foreign Policy Controls, Bureau of Export Administration, Telephone: (202) 482-0171, E-mail: jroberts@bxa.doc.gov.

SUPPLEMENTARY INFORMATION:

Background

The Bureau of Export Administration (BXA) maintains controls on certain military related items, such as military vehicles and certain specially designed commodities to be used to manufacture military equipment. These controls ensure regional stability in support of foreign policy. BXA also maintains controls on certain crime control and detection instruments and equipment, and related technology and software as a matter of foreign policy, to promote the observance of human rights throughout the world. Countries to which exports and reexports of these items are controlled are identified in Supplement No.1 to part 738 of the EAR, the Commerce Country Chart, by an X in the regional stability (RS) column identifier RS 2; and crime control (CC) column identifiers: CC 1, CC 2, or CC 3. This rule amends the license requirements for certain crime control items destined to the Czech Republic, Hungary and Poland because these countries were recently admitted to NATO. The EAR is amended to correctly reflect the status of these countries as NATO members.

Rulemaking Requirements

1. This final rule has been determined to be not significant for purposes of E.O. 12866.

2. Notwithstanding any other provision of law, no person is required to respond nor shall any person be subject to a penalty for failure to comply with, a collection of information, subject to the requirements of the Paperwork Reduction Act, unless that collection of information displays a currently valid OMB Control Number. This rule involves a collection of information subject to the Paperwork Reduction Act of 1980 (44 U.S.C. 3501 et seq.). This collection has been approved by the Office of Management and Budget under control number 0694-0088, “Multi-Purpose Application,” which carries a burden hour estimate of 45 minutes for a manual submission and 40 minutes for an electronic submission.

3. This rule does not contain policies with Federalism implications sufficient to warrant preparation of a Federalism assessment under Executive Order 13132.

4. The provisions of the Administrative Procedure Act (5 U.S.C. 553) requiring notice of proposed rulemaking, the opportunity for public participation, and a delay in effective date, are inapplicable because this regulation involves a military and foreign affairs function of the United States (See 5 U.S.C. 553(a)(1)). Further, no other law requires that a notice of proposed rulemaking and an opportunity for public comment be given for this final rule. Because a notice of proposed rulemaking and an opportunity for public comment are not required to be given for this rule under 5 U.S.C. 553 or by any other law, the analytical requirements of the Regulatory Flexibility Act (5 U.S.C. 601 et seq.) are not applicable.

Therefore, this regulation is issued in final form. Although there is no formal comment period, public comments on this regulation are welcome on a continuing basis. Comments should be submitted to Sheila Quarterman, Regulatory Policy Division, Bureau of Export Administration, Department of Commerce, P.O. Box 273, Washington, DC 20044.

List of Subjects in 15 CFR Parts 738 and 742 Exports, Foreign trade.

Accordingly, Parts 738 and 742 of the Export Administration Regulations (15 CFR parts 730-774) are amended as follows:

1. The authority citation for 15 CFR Part 738 is revised to read as follows:

Authority: 50 U.S.C. app. 2401 et seq.; 50 U.S.C. 1701 et seq.; 10 U.S.C. 7420; 10 U.S.C. 7430(e); 18 U.S.C. 2510 et seq.; 22 U.S.C. 287c; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; Sec. 901-911, Publ. L. 106-387; Sec. 221, Publ. L. 107-56; E.O. 13026, 61 FR 58767, 3 CFR, 1996 Comp., p. 228; E.O. 13222, 66 FR 44025, August 22, 2001.

2. The authority citation for 15 CFR 742 is revised to read as follows:

Authority: 50 U.S.C. app. 2401 et seq.; 50 U.S.C. 1701 et seq.; 18 U.S.C. 2510 et seq.; 22 U.S.C. 3201 et seq.; 42 U.S.C. 2139a; Sec. 901-911, Publ. L. 106-387; Sec. 221, Publ. L. 107-56; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13222, 66 FR 44025, August 22, 2001; Notice of November 9, 2001, 66 FR 56965, November 13, 2001.

PART 738—[AMENDED]

3. Supplement No. 1 to part 738 is amended by revising the entries for “Czech Republic,” “Hungary” and “Poland” to read as follows:

Supplement No. 1 to Part 738—Commerce Country Chart
[Reason for Control]
Countries | Chemical & Biological Weapons: CB 1 | Chemical & Biological Weapons: CB 2 | Chemical & Biological Weapons: CB 3 | Nuclear Nonproliferation: NP 1 | Nuclear Nonproliferation: NP 2 | National Security: NS 1 | National Security: NS 2 | Missile Tech: MT 1 | Regional Stability: RS 1 | Regional Stability: RS 2 | Firearms Convention: FC 1 | Crime Control: CC 1 | Crime Control: CC 2 | Crime Control: CC 3 | Anti- Terrorism: AT 1 | Anti- Terrorism: AT 2
* * * * * * *
Czech Republic | X |  |  |  |  | X | X | X | X
* * * * * * *
Hungary | X |  |  |  |  | X | X | X | X
* * * * * * *
Poland | X |  |  |  |  | X | X | X | X
* * * * * * *

PART 742—[AMENDED]

4. Section 742.6 is amended by revising paragraph (a)(2) to read as follows:

§ 742.6 Regional stability.

(a) * * *

(2) As indicated in the CCL and in RS Column 2 of the Country Chart (see Supplement No. 1 to part 738 of the EAR), a license is required to any destination except countries in Country Group A:1 (see Supplement No. 1 to part 740 of the EAR), Czech Republic, Hungary, Iceland, New Zealand and Poland for military vehicles and certain commodities (specially designed) used to manufacture military equipment, described on the CCL in ECCNs 0A018.c, 1B018.a, 2B018, and 9A018.a and .b.

* * * * *

Dated: March 8, 2002.
James J. Jochum,
Assistant Secretary for Export Administration.

[FR Doc. 02-6297 Filed 3-15-02; 8:45 am]

BILLING CODE 3510-33-P